DEPARTMENT OF VETERANS AFFAIRS

Blue Ribbon Panel on VA-Medical School Affiliations; Notice of Renewal

In compliance with the Federal Advisory Committee Act (Pub. L. 92-463), the Department of Veterans Affairs (VA) gives notice that the Blue Ribbon Panel on VA-Medical School Affiliations has been renewed through September 30, 2009.

The Panel advises the Secretary of Veterans Affairs and the Under Secretary for Health on the framework for guiding VA's affiliations with medical schools and academic medical centers.

Dated: August 29, 2008.
By direction of the Secretary.
E. Philip Riggin,
Committee Management Officer.

[FR Doc. E8-21050 Filed 9-10-08; 8:45 am]

BILLING CODE 8320-01-P